DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing the names of one or more persons whose property and interests in property have been unblocked and who have been removed from the SDN List.

DATES: See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On January 30, 2026, OFAC determined that the property and interests in property subject to U.S. jurisdiction of the following person are blocked under the relevant sanctions authority listed below.

Individual

1. SOLTANMOHAMMADI, Mohammad (a.k.a. SELTAN MOHAMMEDI, Mohammed; a.k.a. SULTAN MOHMADI, Mohhamad; a.k.a. WANG, Chung Lang; a.k.a. WANG, Chung Lung; a.k.a. WANG, Zhong-Lang), Apartment # 1504, Fairooz Tower, Dubai Marina, Dubai, United Arab Emirates; 216 Ocean Drive, Sentosa Cove, Singapore 098622, Singapore; DOB 04 Nov 1960; POB Hamedan, Iran; nationality Iran; alt. nationality United Kingdom; Additional Sanctions Information—Subject to Secondary Sanctions; Gender Male; Passport 518015439 (United Kingdom) expires 07 Apr 2026; alt. Passport T96397867 (Iran); alt. Passport 038016890 (United Kingdom); alt. Passport 093045489 (United Kingdom); alt. Passport U11283369 (Iran); National ID No. S27602 (United Kingdom) (individual) [NPWMD] [IFSR] (Linked To: HODA TRADING).

Designated pursuant to section 1(a)(iii) of Executive Order (E.O.) 13382 of June 28, 2005, “Blocking Property of Weapons of Mass Destruction Proliferators and Their Supporters,” 70 FR 38567, 3 CFR 2005, Comp., p. 170 (E.O. 13382), for having provided, or attempted to provide, financial, material, technological or other support for, or goods and services in support of, Hoda Trading, a person whose property and interests in property are blocked pursuant to E.O. 13382.

On January 30, 2026, OFAC determined that the property and interests in property subject to U.S. jurisdiction of the following person are unblocked and they have been removed from the SDN List.

Entity

1. SOLTECH INDUSTRY CO., LTD. (a.k.a. SOLTECH INDUSTRIES COMPANY LTD.; a.k.a. SOLTECH INDUSTRY COMPANY, LTD; a.k.a. “SOLTECH”; a.k.a. “SOLTECH INDUSTRIES”; a.k.a. “SOLTECH INDUSTRY CO.”; a.k.a. “SOLTECH INDUSTRY COMPANY”), 1A, Fook Ying Building, 379 Kings Road, North Point, Hong Kong, China; Rm 51, 5th Floor, Britannia House, Jalan Cator, Bandar Seri Begawan BS 8811, Brunei; Additional Sanctions Information—Subject to Secondary Sanctions; Company Number NBD/4116 (Brunei) [NPWMD] [IFSR] (Linked To: HODA TRADING).

(Authorities: E.O. 13382, 31 CFR chapter V.)

Bradley T. Smith,
Director, Office of Foreign Assets Control.

[FR Doc. 2026-03637 Filed 2-23-26; 8:45 am]

BILLING CODE 4810-AL-P